DEPARTMENT OF TRANSPORTATION

Federal Highway Administration

Environmental Impact Statement: Etowah County, AL

AGENCY: Federal Highway Administration (FHWA), Department of Transportation.

ACTION: Notice of intent.

SUMMARY: The FHWA is issuing this notice to advise the public that an Environmental Impact Statement will be prepared for a proposed highway project in Etowah County, Alabama. This Notice of Intent (NOI) supersedes a NOI for this proposed project that was issued by the FHWA in the Federal Register dated May 29, 2001 (Volume 66, Number 103) Public involvement and coordination activities on the original proposal have resulted in a change in the scope of the project that should better meet the needs of local community and impacted neighborhoods.

FOR FURTHER INFORMATION CONTACT: Mr. Joe D. Wilkerson, Division Administrator, Federal Highway Administration, 500 Eastern Boulevard, Suite 200, Montgomery, Alabama 36117, Telephone: (334) 223-7370.

SUPPLEMENTARY INFORMATION: The FHWA, in cooperation with the State of Alabama Department of Transportation, will prepare an Environmental Impact Statement (EIS) for Alabama Project HPP-1602 (539), old project number NHF-PE 94 (2). The proposal is to construct a limited access facility from the eastern terminus of Interstate Highway 759 (I-759) near George Wallace Drive to an interchange with U.S. Highway 431 and U.S. Highway 278 in the city of Gadsden, Alabama. The project will be a multi-lane roadway on new location. The proposal will allow traffic from I-759 to flow through the city of Gadsden.

Alternatives under consideration include (1) alternate route locations, (2) a no-action alternative, and (3) postponing the action.

Letters describing the proposed action and soliciting comments will be sent to appropriate Federal, State, and local agencies and to private organizations and citizens that have previously expressed or are known to have an interest in this proposal. A public involvement meeting and a public hearing will be held in the city of Gadsden. Public notice with be given of the time and place for the meeting and hearing. A formal scoping meeting will not be held.

To ensure that the full range of issues related to this proposed action are addressed and all significant issues identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program.)
Issued on: September 21, 2004.
Joe D. Wilkerson,
Division Administrator, Montgomery, Alabama.

[FR Doc. 04-22181 Filed 10-1-04; 8:45 am]

BILLING CODE 4910-22-M